SMALL BUSINESS ADMINISTRATION

[Disaster Declaration #15843 and #15844; Oklahoma Disaster Number OK-00128]

Administrative Declaration of a Disaster for the State of Oklahoma

AGENCY: U.S. Small Business Administration.

ACTION: Notice.

SUMMARY: This is a notice of an Administrative declaration of a disaster for the State of Oklahoma dated 12/20/2018.

Incident: Tornadoes, Severe Storms and Straight-Line Winds.

Incident Period: 11/30/2018 through 12/01/2018.

DATES: Issued on 12/20/2018.

Physical Loan Application Deadline Date: 02/19/2019.

Economic Injury (EIDL) Loan Application Deadline Date: 09/20/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Cherokee.

Contiguous Counties: Oklahoma; Adair, Delaware, Mayes, Muskogee, Sequoyah, Wagoner.

The Interest Rates are:

| Percent
For Physical Damage:
Homeowners with Credit Available Elsewhere | 4.000
Homeowners without Credit Available Elsewhere | 2.000
Businesses with Credit Available Elsewhere | 7.480
Businesses without Credit Available Elsewhere | 3.740
Non-Profit Organizations with Credit Available Elsewhere | 2.750
Non-Profit Organizations without Credit Available Elsewhere | 2.750
For Economic Injury:
Businesses & Small Agricultural Cooperatives without Credit Available Elsewhere | 3.740
Non-Profit Organizations without Credit Available Elsewhere | 2.750

The number assigned to this disaster for physical damage is 15843 C and for economic injury is 15844 0.

The State which received an EIDL Declaration # is Oklahoma.

(Catalog of Federal Domestic Assistance Number 59008)

Dated: December 20, 2018.
Linda E. McMahon,
Administrator.

[FR Doc. 2018-28323 Filed 12-27-18; 8:45 am]

BILLING CODE 8025-01-P